DEPARTMENT OF TRANSPORTATION

Office of the Secretary

Aviation Proceedings, Agreements Filed the Week Ending July 18, 2009

The following Agreements were filed with the Department of Transportation under the sections 412 and 414 of the Federal Aviation Act, as amended (49 U.S.C. 1382 and 1384) and procedures governing proceedings to enforce these provisions. Answers may be filed within 21 days after the filing of the application.

Docket Number: DOT-OST-2009-0164.

Date Filed: July 17, 2009.

Parties: Members of the International Air Transport Association.

Subject: PTC COMP Mail Vote 604.

Resolution 010d.

Establishing Passenger Fares and Related Charges from Nepal (Memo 1535).

Intended effective date: 1 August 2009.

Renee V. Wright,
Program Manager, Docket Operations, Federal Register Liaison.

[FR Doc. E9-18293 Filed 7-30-09; 8:45 am]

BILLING CODE 4910-9X-P